DEPARTMENT OF ENERGY

Federal Energy Regulatory Commission

Combined Notice of Filings #3

Take notice that the Commission received the following electric rate filings:

Docket Numbers: ER14-1307-001

Applicants: Southwestern Electric Power Company

Description: Compliance filing per 35: SWEPCO-Minden PSA Amendment SPP IM Compliance to be effective 3/1/2014.

Filed Date: 11/18/14

Accession Number: 20141118-5170

Comments Due: 5 p.m. ET 12/9/14

Docket Numbers: ER14-2945-000

Applicants: Roundtop Energy LLC

Description: Supplement to September 26, 2014 Roundtop Energy LLC tariff filing.

Filed Date: 11/18/14

Accession Number: 20141118-5154

Comments Due: 5 p.m. ET 12/9/14

Docket Numbers: ER15-164-001

Applicants: Southwest Power Pool, Inc.

Description: Tariff Amendment per 35.17(b): 1636R13 Substitute Kansas Electric Power Cooperative, Inc. NITSA and NOA to be effective 8/1/2014.

Filed Date: 11/18/14

Accession Number: 20141118-5171

Comments Due: 5 p.m. ET 12/9/14

Docket Numbers: ER15-435-000

Applicants: Consumers Energy Company

Description: Request for Limited Waiver of the MISO Open Access Transmission, Energy and Operating Reserve Markets Tariff by Consumers Energy Company.

Filed Date: 11/18/14

Accession Number: 20141118-5226

Comments Due: 5 p.m. ET 12/9/14

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2014.
Nathaniel J. Davis, Sr.,
Deputy Secretary.

[FR Doc. 2014-27906 Filed 11-24-14; 8:45 am]

BILLING CODE 6717-01-P